DEPARTMENT OF HOMELAND SECURITY

Coast Guard

33 CFR Part 100

[Docket No. USCG-2014-0042]

Special Local Regulation; Annual Marine Events on the Colorado River, Between Davis Dam (Bullhead City, AZ) and Headgate Dam (Parker, AZ) Within the San Diego Captain of the Port Zone

AGENCY: Coast Guard, DHS.

ACTION: Notice of enforcement of regulation.

SUMMARY: The Coast Guard will enforce the Blue Water Spring Classic 2014 special local regulations during this year's race on April 5, 2014 through April 6, 2014. This event occurs in the Lake Moovalya region of the navigable waters of the Colorado River in Parker, Arizona. These special local regulations are necessary to provide for the safety of the participants, crew, spectators, sponsor vessels of the boat race, and general users of the waterway. During the enforcement period, persons and vessels are prohibited from entering into, transiting through, or anchoring within this regulated area unless authorized by the Captain of the Port, or his designated representative.

DATES: This rule is effective from 6 a.m. to 6 p.m. on April 5, 2014 through April 6, 2014.

FOR FURTHER INFORMATION CONTACT: If you have questions on this notice, call or email Petty Officer Giacomo Terrizzi, Waterways Management, U.S. Coast Guard Sector San Diego, CA; telephone (619) 278-7656, email D11-PF-MarineEventsSanDiego@uscg.mil.

SUPPLEMENTARY INFORMATION: The Coast Guard will enforce the special local regulations in 33 CFR 100.1102 in support of Blue Water Resort & Casino Spring Classic 2014 (Item 6 on Table 1 of 33 CFR 100.1102), held on a Saturday and Sunday in April. The Coast Guard will enforce the special local regulations on the Colorado River in Parker, AZ on Saturday April 5, 2014 through Sunday April 6, 2014 from 6 a.m. to 6 p.m.

Under the provisions of 33 CFR 100.1102, persons and vessels are prohibited from entering into, transiting through, or anchoring within this regulated area unless authorized by the Captain of the Port, or his designated representative. The Coast Guard may be assisted by other Federal, State, or local law enforcement agencies in enforcing this regulation.

This notice is issued under authority of 5 U.S.C. 552 (a) and 33 CFR 100.1102. In addition to this notice in the Federal Register, the Coast Guard will provide the maritime community with advance notification of this enforcement period via the Local Notice to Mariners and local advertising by the event sponsor.

If the Captain of the Port Sector San Diego or his designated representative determines that the regulated area need not be enforced for the full duration stated on this notice, he or she may use a Broadcast Notice to Mariners or other communications coordinated with the event sponsor to grant general permission to enter the regulated area.

Dated: March 4, 2014.
S.M. Mahoney,
Captain, U.S. Coast Guard Captain of the Port San Diego.

[FR Doc. 2014-06251 Filed 3-20-14; 8:45 am]

BILLING CODE 9110-04-P